FEDERAL MARITIME COMMISSION

Notice of Agreement Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of the agreement are available through the Commission's website (www.fmc.gov) or by contacting the Office of Agreements at (202)-523-5793 or tradeanalysis@fmc.gov.

Agreement No.: 201263.

Agreement Name: Maersk/MSC/Zim Cooperative Working Agreement.

Parties: Maersk Line A/S; Mediterranean Shipping Company S.A.; and Zim Integrated Shipping Services Ltd.

Filing Party: Wayne Rohde, Cozen O'Connor.

Synopsis: The Agreement authorizes the parties to share space and cooperate on the provision of service strings in the trade between Asia and the U.S. East Coast.

Proposed Effective Date: 9/8/2018.

Location: https://www2.fmc.gov/FMC.Agreements.Web/Public/AgreementHistory/14256.

Dated: July 25, 2018.
Rachel Dickon,
Secretary.

[FR Doc. 2018-16280 Filed 7-30-18; 8:45 am]

BILLING CODE P